DEPARTMENT OF LABOR

Employment and Training Administration

[TA-W-54,484]

Cady Industries, Inc., Pearson, GA; Notice of Revised Determination on Reconsideration

By letter postmarked June 8, 2004 (received July 7, 2004), a worker of Cady Industries, Inc., Pearson, Georgia requested administrative reconsideration regarding the Department's Negative Determination Regarding Eligibility to Apply for Worker Adjustment Assistance, applicable to the workers of the subject firm.

The initial investigation, initiated on March 12, 2004, resulted in a negative determination based on the finding that imports of bulk bag fabric, silt fences, leno fabric, leno bags, polypropylene fabric, and polypropylene tubing did not contribute importantly to worker separations at the subject plant and no shift of production to a foreign source occurred. The negative determination was issued on April 21, 2004. The Department's determination Notice was published in the Federal Register on June 2, 2004 (69 FR 31135).

The Department had previously processed a request for reconsideration for workers of the subject firm. The earlier request was filed on May 11, 2004, by a company official.

The May 11, 2004 request for reconsideration resulted in a dismissal of the application because no new information was presented that would bear importantly on Department's denial of the petition. The dismissal letter was signed on June 24, 2004. The Notice of Dismissal of Application for Reconsideration was issued on June 25, 2004 and published in the Federal Register on July 1, 2004 (69 FR 39968).

On July 7, 2004, the Department received the subsequent request for reconsideration (June 8, 2004 postmarked letter) and conducted another reconsideration investigation.

As part of the second reconsideration investigation, the Department further reviewed the initial investigation and engaged in a detailed re-evaluation of the customers' survey. The Department determined that a significant number of major declining customers contacted during the original investigation increased their imports of bulk bag fabric, silt fences, leno fabric, leno bags, polypropylene fabric, and polypropylene tubing in the relevant period. The imports accounted for a meaningful portion of the subject plant's lost sales and production.

Prior to the issuance of a determination certifying the subject worker group, however, the Department was informed that the petitioner had filed an appeal with the U.S. Court of International Trade (USCIT) on June 21, 2004. As a result of the filing, the Department suspended the issuance of the revised determination.

In its Motion for Voluntary Remand, the Department requested that it be permitted to render a revised determination for the subject worker group. On August 26, 2004, the USCIT granted the Department's motion.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the complete administrative file, I conclude that increased imports of articles like or directly competitive with those produced at Cady Industries, Inc., Pearson, Georgia, contributed importantly to the declines in sales or production and to the total or partial separation of workers at the subject firm. In accordance with the provisions of the Act, I make the following certification:

All workers of Cady Industries, Inc., Pearson, Georgia, who became totally or partially separated from employment on or after March 11, 2003 through two years from the date of this certification, are eligible to apply for adjustment assistance under section 223 of the Trade Act of 1974, and are eligible to apply for alternative trade adjustment assistance under Section 246 of the Trade Act of 1974.

Signed in Washington, DC this 30th day of September 2004.
Elliott S. Kushner,
Certifying Officer, Division of Trade Adjustment Assistance.

[FR Doc. E4-2693 Filed 10-15-04; 8:45 am]

BILLING CODE 4510-30-P